DEPARTMENT OF TRANSPORTATION

Surface Transportation Board

[STB Finance Docket No. 34075]

Six County Association of Governments—Construction and Operation Exemption—Rail Line Between Juab and Salina, UT

ACTION: Notice of availability of draft Scope of Analysis for the Environmental Impact Statement.

SUMMARY: On July 30, 2001, the Six County Association of Governments (SCAOG), a regional association representing Juab, Millard, Sevier, Sanpete, Piute, and Wayne counties in central Utah, filed a Petition for Exemption with the Surface Transportation Board (Board) pursuant to 49 U.S.C. 10502 for authority for construction and operation of a new rail line between Juab and Salina, Utah. The project would involve approximately 43 miles of new rail line and ancillary facilities to serve shippers in central Utah, particularly Southern Utah Fuels Company (SUFCO) coal operations. Because the construction and operation of this project has the potential to result in significant environmental impacts, the Board's Section of Environmental Analysis (SEA) has determined that the preparation of an Environmental Impact Statement (EIS) is appropriate. SEA held public scoping meetings as part of the EIS process, as discussed in the Notice of Scoping Meetings and Request for Comments published by the Board on October 20, 2003. As part of the scoping process, SEA has developed a draft Scope of Analysis for the EIS.

SEA has made available for public comment the draft Scope of Analysis contained in this notice. SEA will issue a final Scope of Analysis shortly after the close of the comment period. Written comments on the Scope of Study are due January 26, 2004.

Filing Environmental Comments: Interested persons and agencies are invited to participate in the EIS scoping process. A signed original and 10 copies of comments should be submitted to: Surface Transportation Board, Case Control Unit, STB Finance Docket No. 34075, 1925 K Street, NW., Washington, DC 20423-0001, with the following designation written in the lower left-hand corner of the envelope: Attention: Phillis Johnson-Ball, Environmental Project Manager, Environmental Filing.

FOR FURTHER INFORMATION CONTACT: Ms. Phillis Johnson-Ball, Section of Environmental Analysis, Surface Transportation Board, 1925 K Street, NW., Washington, DC 20423-0001. The Web site for the Surface Transportation Board is www.stb.dot.gov.

SUPPLEMENTARY INFORMATION:

Draft Scope of Analysis for the EIS

Proposed Action and Alternatives

The proposed action, known as the Central Utah Rail project, involves the construction and operation of approximately 43 miles of new rail line connecting the existing Union Pacific Railroad (UPRR) line near Juab, Utah, to a proposed coal transfer terminal facility near Salina, Utah. Implementation of the proposed project would restore rail service to the Sevier Valley, providing a more direct connection to rail service for the coal industry (primarily SUFCO), provide rail service to other shippers in the Sevier Valley, and reduce the number of trucks on highways in the Sevier Valley.

The reasonable and feasible alternatives that will be evaluated in the EIS are (1) construction and operation of the proposed project, (2) the no-action alternative, and (3) alternative alignments identified during the scoping process.

Environmental Impact Analysis

Proposed New Construction

Analysis in the EIS will address the proposed activities associated with the construction and operation of new rail facilities and their potential environmental impacts, as appropriate.

Impact Categories

The EIS will address potential impacts from the proposed construction and operation of new rail facilities on the human and natural environment. Impact areas addressed will include the categories of land use, biological resources, water resources, geology and soils, air quality, noise, energy resources, socioeconomics as they relate to physical changes in the environment, safety, transportation systems, cultural and historic resources, recreation, aesthetics, and environmental justice. The EIS will include a discussion of each of these categories as they currently exist in the project area and will address the potential impacts from the proposed project on each category as described below:

1. Land Use

The EIS will:

a. Describe existing land use patterns within the project area and identify those uses that would be potentially impacted by proposed rail line construction.

b. Describe the potential impacts associated with the proposed new rail line construction on land uses identified in the project area. Such impacts may include impacts on farming and ranching activities, incompatibility with existing land uses, and conversion of land to railroad uses.

c. Propose mitigative measures to minimize or eliminate potential project impacts on land use, as appropriate.

2. Biological Resources

The EIS will:

a. Describe existing biological resources within the project area, including vegetative communities, wildlife and fisheries, and federal and state threatened or endangered species, and the potential impacts on those resources resulting from construction and operation of proposed rail facilities.

b. Describe any wildlife sanctuaries, refuges, and national or state parks, forests, or grasslands within the project area and potential impacts on these resources resulting from construction and operation of the proposed rail line and ancillary facilities.

c. Propose mitigative measures to minimize or eliminate potential project impacts on biological resources, as appropriate.

3. Water Resources

The EIS will:

a. Describe the existing surface and groundwater resources within the project area, including lakes, rivers, streams, ponds, wetlands, and flood plains, and the potential impacts on these resources resulting from construction and operation of the proposed rail line and ancillary facilities.

b. Describe the permitting requirements for the proposed new rail line construction regarding wetlands, stream and river crossings, water quality, and erosion and sedimentation control.

c. Describe the existing private water wells located within the project area and potential impacts, if any, to water quality due to vibration from haul trains.

d. Describe current access to irrigation water within the project area and potential impacts due to alignment location.

e. Propose mitigative measures to minimize or eliminate potential project impacts on water resources, as appropriate.

4. Geology and Soils

The EIS will:

a. Describe the geology and soils within the project area, including unique formations, problematic/hazardous geology or soils, prime or unique farmland soils, hydric soils, and the potential impacts on these resources resulting from the construction and operation of the proposed rail line.

b. Propose mitigative measures to minimize or eliminate potential project impacts on geological resources and/or soils, as appropriate.

5. Air Quality

The EIS will:

a. Describe the attainment status of the project area, including proximity to any Class I or non-attainment area as designated under the Clean Air Act. Estimates of air emissions related to the construction and operation of the proposed new rail line will be prepared.

b. Discuss and evaluate the potential air emissions changes from diversion of existing vehicle-related emissions to rail.

c. Propose mitigative measures to minimize or eliminate potential impacts related to the construction and operation of the proposed rail line.

6. Noise

The EIS will:

a. Describe the potential noise impacts of new rail line construction and operation for those sensitive receptors (houses, schools, etc.) where the increase may exceed 3 dbA Ldn or exceed a total of 65 dbA Ldn.

b. Propose mitigative measures to minimize or eliminate potential project impacts on noise receptors, as appropriate.

7. Energy Resources

The EIS will:

a. Describe the potential impact of the new rail line on the distribution of energy resources in the project area, including petroleum and gas pipelines and overhead electric transmission lines.

b. Propose mitigative measures to minimize or eliminate potential project impacts on energy resources, as appropriate.

8. Socioeconomics

The EIS will:

a. Describe the potential environmental impacts on residences, residential areas, and communities within the project area as a result of new rail line construction and operation activities.

b. Describe the potential environmental impacts on commercial and industrial activities and development in the project area as a result of new rail line construction and operation activities.

c. Propose mitigative measures to minimize or eliminate potential project impacts on socioeconomic resources, as appropriate.

9. Safety

The EIS will:

d. Describe new at-grade rail crossings that would result from construction of the rail line and the potential for an increase in accidents related to the new rail line operations, as appropriate.

e. Describe rail operations and the potential for increased probability of train accidents, as appropriate.

f. Describe safety factors, as appropriate, for rail/pipeline crossings, if any exist in the project area.

g. Describe existing trucking operations for coal hauling and the potential for accidents from those operations.

h. Describe the potential for disruption and delays to the movement of emergency vehicles due to new rail line construction and operations.

i. Propose mitigative measures to minimize or eliminate potential project impacts on safety, as appropriate.

9. Transportation Systems

The EIS will:

a. Describe the potential impacts of new rail line construction and operation on the existing transportation network in the project area, including vehicular delays at at-grade road/rail crossings.

b. Describe potential impacts on navigation associated with proposed new bridges.

c. Describe effects of current coal trucking operations on the existing road network and communities.

d. Describe current access to recreation locations within the project area and potential impacts from rail line construction and operation.

e. Propose mitigative measures to minimize or eliminate potential project impacts on transportation systems, as appropriate.

10. Cultural and Historic Resources

The EIS will:

a. Describe the potential impacts on historic structures or districts previously recorded and determined potentially eligible, eligible, or listed on the National Register of Historic Places (NRHP) that are within or immediately adjacent to the right-of-way for the proposed and alternative rail alignments.

b. Describe the potential impacts on archaeological sites previously recorded and either listed as unevaluated or determined potentially eligible, eligible, or listed on the NRHP that are within or immediately adjacent to the right-of-way for the proposed and alternative rail alignments.

c. Describe the potential impacts on historic structures or districts determined to be potentially eligible, eligible, or listed on the NRHP that are within the right-of-way for the proposed and alternative rail alignments.

d. Describe the likelihood for unrecorded, buried archaeological sites to exist within the right-of-way for the proposed and alternative rail alignments, the potential that the sites are eligible for listing on the NRHP, and the potential impact of the rail construction on the sites.

e. Describe the potential general impacts on paleontological resources in the project area due to project construction, if necessary.

f. Propose mitigative measures to minimize or eliminate potential project impacts on cultural and historic resources, as appropriate.

11. Recreation

The EIS will:

a. Describe potential impacts of the proposed new rail line construction and operation on recreational opportunities provided in the project area.

b. Propose mitigative measures to minimize or eliminate potential project impacts on recreation resources, as appropriate.

12. Aesthetics

The EIS will:

a. Describe the potential impacts of the proposed new rail line construction and operation on any areas determined to be of high visual quality.

b. Describe the potential impacts of the proposed new rail line construction and operation on any waterways designated or considered for designation as wild and scenic.

c. Propose mitigative measures to minimize or eliminate potential project impacts on aesthetics, as appropriate.

13. Environmental Justice

The EIS will:

a. Describe demographics in the project area and the immediate vicinity of the proposed new construction, including communities potentially impacted by the construction and operation of the proposed new rail line.

b. Evaluate whether proposed new rail line construction or operation would have a disproportionately high and adverse impact on minority or low-income groups.

c. Propose mitigative measures to minimize or eliminate potential project impacts on environmental justice communities, as appropriate.

14. Cumulative Impacts

The EIS will address the cumulative impacts on the environment that may result from the proposed action when added to other past, present, and reasonably foreseeable future actions, regardless of what agency or individuals undertake such actions.

By the Board, Victoria Rutson, Chief, Section of Environmental Analysis.
Vernon A. Williams,
Secretary.

[FR Doc. 03-31718 Filed 12-23-03; 8:45 am]

BILLING CODE 4915-00-P